DEPARTMENT OF TRANSPORTATION

Federal Aviation Administration

Notice of Intent To Rule on Application 04-07-C-00-BGM To Impose/Use the Revenue From a Passenger Facility Charge (PFC) at Greater Binghamton Airport, Binghamton, NY

AGENCY: Federal Aviation Administration (FAA), DOT.

ACTION: Notice of intent to rule on application.

SUMMARY: The FAA proposes to rule and invites public comment on the application to impose/use the revenue from a PFC at Greater Binghamton Airport under the provisions of the Aviation Safety and Capacity Expansion Act of 1990 (Title IX of the Omnibus Budget Reconciliation Act of 1990) (Pub. L. 101-508) and Part 158 of the Federal Aviation Regulations (14 CFR Part 158).

DATES: Comments must be received on or before August 20, 2004.

ADDRESSES: Comments on this application may be mailed or delivered in triplicate to the FAA at the following address: Federal Aviation Administration, New York Airports District Office, 600 Old Country Road, Suite 446, Garden City, NY 11530.

In addition, one copy of any comments submitted to the FAA must be mailed or delivered to Mr. Carl R. Beardsley, Jr., Deputy Commissioner of Aviation, of the Broome County Department of Aviation at the following address: Broome County Department of Aviation, Greater Binghamton Airport, 2534 Airport Road, Box 16, Johnson City, NY 13790.

Air carriers and foreign air carriers may submit copies of written comments previously provided to the Broome County Department of Aviation under section 158.23 of Part 158.

FOR FURTHER INFORMATION CONTACT: Mr. Robert Levine, Airport Engineer, New York Airports District Office, 600 Old Country Road, Suite 446, Garden City, NY 11530, (516) 227-3807. The application may be reviewed in person at this same location.

SUPPLEMENTARY INFORMATION: The FAA proposes to rule and invites public comment on the application to impose/use the revenue from a PFC at Greater Binghamton Airport under the provisions of the Aviation Safety and Capacity Expansion Act of 1990 (Title IX of the Omnibus Budget Reconciliation Act of 1990) (Pub. L. 101-508) and Part 158 of the Federal Aviation Regulations (14 CFR Part 158).

On June 29, 2004, the FAA determined that the application to impose/use the revenue from a PFC submitted by the Broome County Department of Aviation was substantially complete within the requirements of § 158.25 of Part 158. The FAA will approve or disapprove the application, in whole or in part, no later than September 29, 2004.

The following is a brief overview of the application.

PFC Application No.: 04-07-C-00-BGM.

Level of the proposed PFC: $4.50.

Proposed charge effective date: May 1, 2005.

Proposed charge expiration date: December 1, 2005.

Total estimated PFC revenue: $531,220.

Brief description of proposed project(s):

—Glycol Collection Rehabilitation

—Runway 16/34 Rehabilitation, Design/Construction

—Runway 10/28 Safety Area Study

—Airport Wildlife Hazard Study

—Airport Entrance Road Improvements

—Taxiway Rehabilitation—Design

Class or classes of air carriers which the public agency has requested not be required to collect PFCs: Non-Scheduled/On Demand Air Carriers filing FAA form 1800-31.

Any person may inspect the application in person at the FAA office listed above under FOR FURTHER INFORMATION CONTACT and at the FAA regional airports office located at: Federal Aviation Administration, Airports Division, AEA-610, Eastern Region, 1 Aviation Plaza, Jamaica, New York, 11434-4809.

In addition, any person may, upon request, inspect the application, notice and other documents germane to the application in person at the Broome County Department of Aviation.

Issued in Garden City, New York on July 8, 2004.
Philip Brito,
Manager, New York Airports District Office, Eastern Region.

[FR Doc. 04-16523 Filed 7-20-04; 8:45 am]

BILLING CODE 4910-13-M